DEPARTMENT OF ENERGY

Federal Energy Regulatory Commission

[Project No. 12087-001]

White River Falls Energy Associates, Inc.; Notice of Surrender of Preliminary Permit

November 27, 2002.

Take notice that White River Falls Energy Associates, Inc., permittee for the proposed White River Falls Project, has requested that its preliminary permit be terminated. The permit was issued on February 6, 2002, and would have expired on January 31, 2005. The project would have been located on the White River in Wasco County, Oregon.

The permittee filed the request on September 9, 2002, and the preliminary permit for Project No. 12087 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Linwood A. Watson, Jr.,
Deputy Secretary.

[FR Doc. 02-30711 Filed 12-3-02; 8:45 am]

BILLING CODE 6717-01-P